DEPARTMENT OF TRANSPORTATION

Office of the Secretary

Aviation Proceedings, Agreements Filed the Week Ending September 30, 2005

The following Agreements were filed with the Department of Transportation under the Sections 412 and 414 of the Federal Aviation Act, as amended (49 U.S.C. 1382 and 1384) and procedures governing proceedings to enforce these provisions. Answers may be filed within 21 days after the filing of the application.

Docket Number: OST-2005-22568.

Date Filed: September 26, 2005.

Parties: Members of the International Air Transport Association.

Subject: TC1 Passenger Tariff Coordinating Conference Teleconference, 25-27 July 2005; TC1 Within South America Resolutions (PTC1 0331); TC1 Passenger Tariff Coordinating Conference Teleconference, 25-27 July 2005; TC1 Longhaul between USA and Chile, Panama Resolutions (PTC1 0334); Minutes: TC1 Teleconference, 25-27 July 2005 (Memo PTC1 338); Tables: TC1 Within South America specified fare table (Memo PTC1 0102); Technical Correction: TC1 Passenger Tariff Coordinating Conference Teleconference, 25-27 July 2005; TC1 Longhaul between USA and Chile, Panama (PTC0337); Intended effective date: 1 January 2006.

Docket Number: OST-2005-22595.

Date Filed: September 28, 2005.

Parties: Members of the International Air Transport Association.

Subject: TC23/123 Europe—Japan/Korea Expedited Resolution 002af (Memo 0130); rl; Intended effective date: 1 December 2005.

Docket Number: OST-2005-22598.

Date Filed: September 28, 2005.

Parties: Members of the International Air Transport Association.

Subject: TC23/TC123 Africa-TC3 Geneva & Teleconference, 12-14 September 2005; Intended effective date: 1 November 2005.

Docket Number: OST-2005-22599.

Date Filed: September 28, 2005.

Parties: Members of the International Air Transport Association.

Subject: TC23/TC123 Middle East-South Asian Subcontinent expedited reso 002am; Geneva & Teleconference, 12-14 September 2005 (Memo 0240); TC23/TC123 Middle East-South West Pacific Expedited reso 002ai; Geneva & Teleconference, 12-14 September 2005 (Memo 0241); TC23/TC123 Middle East-Japan, Korea Reso 002an; Geneva & Teleconference, 12-14 September 2005 (Memo 0242); Intended effective date: 1 November 2005.

Renee V. Wright,
Program Manager, Docket Operations, Federal Register Liaison.

[FR Doc. 05-21453 Filed 10-26-05; 8:45 am]

BILLING CODE 4910-62-P